DEPARTMENT OF THE INTERIOR

Fish and Wildlife Service

[Docket No. FWS-HQ-LE-2022-0119; FF09L00000/FX/LE18110900000/223; OMB Control Number 1018-0092]

Agency Information Collection Activities; Federal Fish and Wildlife Applications and Reports—Law Enforcement

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before November 22, 2022.

ADDRESSES: Send your comments on the information collection request (ICR) by one of the following methods (please reference 1018-0092 in the subject line of your comments):

• Internet (preferred): https://www.regulations.gov. Follow the instructions for submitting comments on Docket No. FWS-HQ-LE-2022-0119.

• Email: Info_Coll@fws.gov.

• U.S. mail: Service Information Collection Clearance Officer, U.S. Fish and Wildlife Service, 5275 Leesburg Pike, MS: PRB (JAO/3W), Falls Church, VA 22041-3803.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Endangered Species Act (ESA; 16 U.S.C. 1531 et seq.) makes it unlawful to import or export wildlife or wildlife products for commercial purposes without first obtaining an import/export license (see 16 U.S.C. 1538(d)). The ESA also requires that fish or wildlife be imported into or exported from the United States only at a designated port, or at a nondesignated port under certain limited circumstances (see 16 U.S.C. 1538(f)). This information collection includes the following permit/license application forms:

FWS Form 3-200-2, “Designated Port Exception Permit”

Under 50 CFR 14.11, it is unlawful to import or export wildlife or wildlife products at ports other than those designated in 50 CFR 14.12, unless you qualify for an exception. The following exceptions allow qualified individuals, businesses, or scientific organizations to import or export wildlife or wildlife products at a nondesignated port:

(a) To export the wildlife or wildlife products for scientific purposes;

(b) To minimize deterioration or loss; or

(c) To relieve economic hardship.

To request authorization to import or export wildlife or wildlife products at nondesignated ports, applicants must complete FWS Form 3-200-2. Designated port exception permits can be valid for up to 2 years. We may require a permittee to file a report on activities conducted under authority of the permit.

FWS Form 3-200-3a, “Federal Fish and Wildlife Permit Application Form: Import/Export License—U.S. Entities,” and 3-200-3b, “Federal Fish and Wildlife Permit Application Form: Import/Export License—Foreign Entities”

It is unlawful to import or export wildlife or wildlife products for commercial purposes without first obtaining an import/export license (50 CFR 14.91). Applicants located in the United States must complete FWS Form 3-200-3a to request this license. Foreign applicants that reside or are located outside the United States must complete FWS Form 3-200-3b to request this license.

We use the information collected on FWS Forms 3-200-3a and 3-200-3b as an enforcement tool and management aid to (a) monitor the international wildlife market and (b) detect trends and changes in the commercial trade of wildlife and wildlife products. Import/export licenses are valid for up to 1 year. We may require a licensee to file a report on activities conducted under authority of the import/export license.

Proposed Revision

With this submission, we propose to revise application forms 3-200-2 and 3-200-3a to correct an error which removed the tax ID (Social Security Number or Employer Identification Number) field from the forms in the most recent revision of this collection. This critical information is used by wildlife inspectors and special agents during law enforcement investigations to ensure the identities of individuals are accurate and not mistaken while investigating wildlife crimes and to verify the applicant is the same person that had knowledge of wildlife laws and regulations.

Title of Collection: Federal Fish and Wildlife Applications and Reports—Law Enforcement; 50 CFR parts 13 and 14.

OMB Control Number: 1018-0092.

Form Number: FWS Forms 3-200-2, 3-200-3a, 3-200-3b, 3-200-44, and 3-200-44a.

Type of Review: Revision of a currently approved collection.

Respondents/Affected Public: Individuals, private sector, and State/local/Tribal entities.

Respondent's Obligation: Required to obtain or retain a benefit.

Frequency of Collection: On occasion for Forms 3-200-2, 3-200-3a, 3-200-3b, 3-200-44, and reporting requirements and biannually for Form 3-200-44a.

Total Estimated Annual Nonhour Burden Cost: $1,188,700. There is a $100 fee associated with applications (Forms 3-200-2, 3-200-3a, and 3-200-3b) and a $150 fee associated with applications (Form 3-200-44) received from individuals and the private sector. There is no fee for applications from government agencies or for processing reports.

Activity/requirement | Estimated number of annual respondents | Estimated number of annual responses | Total estimated annual responses | Completion time per response (hours) | Estimated total annual burden hours *
FWS Form 3-200-2, “Designated Port Exception Permit” (50 CFR parts 13 and 14) (Hardcopy)
Individuals | 289 | 1 | 289 | 1.25 | 361
Private Sector | 361 | 1 | 361 | 1.25 | 451
Government | 7 | 1 | 7 | 1.25 | 9
FWS Form 3-200-2, “Designated Port Exception Permit” (50 CFR parts 13 and 14) (eLicense)
Individuals | 289 | 1 | 289 | 1 | 289
Private Sector | 361 | 1 | 361 | 1 | 361
Government | 7 | 1 | 7 | 1 | 7
FWS Form 3-200-3a, “Federal Fish and Wildlife Permit Application Form: Import/Export License—U.S. Entities” (50 CFR parts 13 and 14) (Hardcopy)
Private Sector | 5,099 | 1 | 5,099 | 1.25 | 6,374
FWS Form 3-200-3a, “Federal Fish and Wildlife Permit Application Form: Import/Export License—U.S. Entities” (50 CFR parts 13 and 14) (eLicense)
Private Sector | 5,099 | 1 | 5,099 | 1 | 5,099
FWS Form 3-200-3b, “Federal Fish and Wildlife Permit Application Form: Import/Export License—Foreign Entities” (50 CFR parts 13 and 14) (Hardcopy)
Private Sector | 190 | 1 | 190 | 1.25 | 238
FWS Form 3-200-3b, “Federal Fish and Wildlife Permit Application Form: Import/Export License—Foreign Entities” (50 CFR parts 13 and 14) (eLicense)
Private Sector | 190 | 1 | 190 | 1 | 190
Designated Port Exception Permit Report (50 CFR parts 13 and 14)
Private Sector | 5 | 1 | 5 | 1 | 5
Import/Export License Report (50 CFR parts 13 and 14)
Private Sector | 10 | 1 | 10 | 1 | 10
FWS Forms 3-200-44, “Permit Application Form: Registration of an Agent/Tannery under the Marine Mammal Protection Act (MMPA)” (Hardcopy)
Private Sector | 3 | 1 | 3 | .3 | 1
FWS Forms 3-200-44, “Permit Application Form: Registration of an Agent/Tannery under the Marine Mammal Protection Act (MMPA)” (ePermits)
Private Sector | 3 | 1 | 3 | .25 | 1
FWS Form 3-200-44a, “Registered Agent/Tannery Bi-Annual Inventory Report” (Hardcopy)
Private Sector | 10 | 2 | 20 | 1 | 20
FWS Form 3-200-44a, “Registered Agent/Tannery Bi-Annual Inventory Report” (ePermits)
Private Sector | 10 | 2 | 20 | .75 | 15
Total | 11,933 |  | 11,953 |  | 13,431
* Rounded to Match ROCIS.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-20627 Filed 9-22-22; 8:45 am]

BILLING CODE 4333-15-P